DEPARTMENT OF EDUCATION

Applications for New Awards; Lead of a Career and Technical Education Network: Research Networks Focused on Critical Problems of Education Policy and Practice Program

AGENCY: Institute of Education Sciences, Department of Education.

ACTION: Notice; correction.

SUMMARY: On January 22, 2018, we published in the Federal Register a notice to fund the Lead of a Career and Technical Education Network under the Research Networks Focused on Critical Problems of Education Policy and Practice Program, Catalog of Federal Domestic Assistance number 84.305N. This correction notice modifies the original notice to provide information on a grantee's authority to award subgrants to institutions of higher education, public and private non-profit organizations, and agencies identified in an approved application.

DATES: March 2, 2018.

FOR FURTHER INFORMATION CONTACT: Dr. Corinne Alfeld, Institute of Education Sciences, U.S. Department of Education, Potomac Center Plaza, 550 12th Street SW, Washington, DC 20202 or by email: Corinne.Alfeld@ed.gov.

If you use a telecommunications device for the deaf (TDD) or a text telephone (TTY), call the Federal Relay Service (FRS), toll free, at 1-800-877-8339.

SUPPLEMENTARY INFORMATION:

Correction

In the Federal Register notice of January 22, 2018 (83 FR 2967), on page 2967 in the third column under the heading III. Eligibility Information, immediately following paragraph 2. Cost Sharing or Matching, we add the following paragraph:

3. Eligible Subgrantees: (a) Under 34 CFR 75.708(b) and (c) a grantee may award subgrants to directly carry out project activities described in its application to the following types of entities: institutions of higher education, public and private non-profit organizations, and agencies.

(b) The grantee may award subgrants to entities identified in an approved application.

Program Authority: 20 U.S.C. 2324(d)(4); 20 U.S.C. 9501 et seq.

Accessible Format: Individuals with disabilities can obtain this document and a copy of the Request for Applications in an accessible format (e.g., braille, large print, audiotape, or compact disc) on request to the program contact person listed under FOR FURTHER INFORMATION CONTACT.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at this site.

You may also access documents of the Department published in the Federal Register by using the article search feature at: www.federalregister.gov. Specifically, through the advanced search feature at this site, you can limit your search to documents published by the Department.

Dated: February 27, 2018.
Thomas Brock,
Commissioner of the National Center for Education Research, Delegated the Duties of the Director of the Institute of Education Sciences.

[FR Doc. 2018-04327 Filed 3-1-18; 8:45 am]

BILLING CODE 4000-01-P